ENVIRONMENTAL PROTECTION AGENCY

[FRL-7919-8]

Florida Petroleum Reprocessors Superfund Site; Notice of Proposed Settlement

AGENCY: Environmental Protection Agency (EPA).

ACTION: Notice of proposed de minimis settlement.

SUMMARY: Under section 122(g) (4) of the Comprehensive Environmental Response Compensation and Liability Act (CERCLA), the Environmental Protection Agency has offered a de minimis settlement at the Florida Petroleum Reprocessors Superfund Sire (Site) located in Davie, Florida. EPA will consider public comments until July 1, 2005. EPA may withdraw from or modify the proposed settlement should such comments disclose facts or considerations which indicated the proposed settlement in inappropriate, improper, or inadequate. Copies of the proposed settlement are available from: Ms. Paula V. Batchelor, Environmental Protection Agency, Region 4, Superfund Enforcement & Information Management Branch, Waste Management Division, 61 Forsyth Street, SW., Atlanta, Georgia 30303. (404) 562-8887. Batchelor.Paula@EPA.gov.

Written or e-mail comments may be submitted to Paula V. Batchelor at the above address within 30 days of the date of publication.

Dated: May 4, 2005.
Rosalind H. Brown,
Chief, Superfund Enforcement & Information Management Branch, Waste Management Division.

[FR Doc. 05-10849 Filed 5-31-05; 8:45 am]

BILLING CODE 6560-50-P